DEPARTMENT OF JUSTICE

Federal Bureau of Investigation

Meeting of the CJIS Advisory Policy Board

AGENCY: Federal Bureau of Investigation (FBI), Justice.

ACTION: Meeting notice.

SUMMARY: The purpose of this notice is to announce the meeting of the Criminal Justice Information Services (CJIS) Advisory Policy Board (APB). The CJIS APB is responsible for reviewing policy issues, uniform crime reports, and appropriate technical and operational issues related to the programs administered by the FBI's CJIS Division, and thereafter, make appropriate recommendations to the FBI Director. The topics to be discussed will include proposed changes to the definition of Administration of Criminal Justice in part 20 of title 28, Code of Federal Regulations; the proposal to establish a public website for National Crime Information Center “Property and Wanted Person Files”; and DNA Indicator in the Interstate Identification Index segment of the Integrated Automated Fingerprint Identification System (IAFIS). Discussion will also include the status on the National Crime Prevention and Privacy Compact, status of the Joint Task Force on Rap Sheet Standardization, the question of whether the Crime Index is a True Indicator of Crime, Immigration and Naturalization Service Alien Initiative, the Department of Justice Global and Information Sharing Project, and other issues related to the IAFIS, NCIC, Law Enforcement Online, National Instant Criminal Background Check System and Uniform Crime Reporting programs.

The meetign will be open to the public on a first-come first-seated basis. Any member of the public wishing to file a written statement concerning the FBI's CJIS Division programs or wishing to address this session should notify the Designated Federal Employee, Mr. Roy G. Weise, at (304) 625-2730, at least 24 hours prior to the start of the session.

The notification should contain the requestor's name, corporate designation, and consumer affiliation or government designation along with a short statement describing the topic to be addressed and the time needed for the presentation. A requestor will ordinarily be allowed no more than 15 minutes to present a topic.

Dates and Times: The APB will meet in open session from 9 a.m. until 5 p.m. on December 4-5, 2002.

ADDRESSES: The meeting will take place at the Inter-Continental Houston, 2222 West Loop South, Houston, Texas, telephone (713) 627-7600.

FOR FURTHER INFORMATION CONTACT: Inquiries may be addressed to Mrs. Diane M. Shaffer, Management Analyst, Advisory Groups Management Unit, Programs Development Section, FBI CJIS Division, Module C3, 1000 Custer Hollow Road, Clarksburg, West Virginia 26309-0149, telephone (304) 625-2615, facsimile (304) 625-5090.

Roy G. Weise,
Designated Federal Employee, Criminal Justice Information Services Division, Federal Bureau of Investigation.

[FR Doc. 02-27706 Filed 10-30-02; 8:45 am]

BILLING CODE 4410-02-M